DEPARTMENT OF HEALTH AND HUMAN SERVICES

Centers for Disease Control and Prevention

Advisory Committee for Energy-Related Epidemiologic Research, Subcommittee for Management Review of the Chernobyl Studies: Meeting

In accordance with section 10(a)(2) of the Federal Advisory Committee Act (Pub. L. 92-463), the Centers for Disease Control and Prevention (CDC) announces the following committee meeting.

Name: Advisory Committee for Energy-Related Epidemiologic Research (ACERER), Subcommittee for Management Review of the Chernobyl Studies (SMRCS).

Time and Date: 8:30 a.m.-3:30 p.m., February 24, 2000.

Place: Omni Shoreman Hotel, 2500 Calvert Street, N.W., Washington, D.C. 20008, telephone 202/234-0700, fax 202/265-5333.

Status: Open to the public, limited only by the space available. The meeting room accommodates approximately 30 people.

Purpose: This subcommittee is charged with providing guidance to the scientific reviewers and staff, and reporting back to the full ACERER on the charge from the Department and Congress to assess the management, goals, and objectives of the National Cancer Institute Chernobyl studies.

Matters To Be Discussed: Agenda items will include: a briefing to and receiving input from public interest groups; a report on the progress review; and a discussion of the upcoming site visit to the Ukraine and Belarus.

Agenda items are subject to change as priorities dictate.

CONTACT PERSON FOR MORE INFORMATION: Michael J. Sage, Acting Deputy Director, National Center for Environmental Health, CDC, 4770 Buford Highway, NE, (F-28), Atlanta, Georgia 30341-3724, telephone 770/488-7002, fax 770/488-7015.

The Director, Management Analysis and Services Office, has been delegated the authority to sign Federal Register notices pertaining to announcements of meetings and other committee management activities for both CDC and the Agency for Toxic Substances and Disease Registry.

Dated: January 20, 2000.
Carolyn J. Russell,
Director, Management Analysis and Services Office, Centers for Disease Control and Prevention.

[FR Doc. 00-1926 Filed 1-28-00; 8:45 am]

BILLING CODE 4163-18-P